DEPARTMENT OF THE INTERIOR

Bureau of Land Management

[19XL.LLIDB03000.LF3100000.DF0000.LFHFFR650000.241A.4500136018]

Notice of Availability for the Tri-State Fuel Breaks Project Record of Decision, Idaho

AGENCY: Bureau of Land Management, Interior.

ACTION: Notice of availability.

SUMMARY: In accordance with the National Environmental Policy Act of 1969, as amended, and the Federal Land Policy and Management Act of 1976, as amended, the Bureau of Land Management (BLM) announces the availability of the Record of Decision (ROD) for the Idaho BLM portion of the Tri-state Fuel Breaks Project Environmental Impact Statement (EIS).

ADDRESSES: Interested persons may review the ROD and accompanying background documents on the project website: https://go.usa.gov/xPruu. Copies of the ROD are available upon request from the BLM Boise District Office, 3948 S Development Ave., Boise, Idaho.

FOR FURTHER INFORMATION CONTACT: Lance Okeson, Project Lead, 208-384-3300; 3948 South Development Ave., Boise, ID 83705; blm_id_tristate@blm.gov. Persons who use a telecommunications device for the deaf (TDD) may call the Federal Relay Service (FRS) at 1-800-877-8339 to contact the above individual during normal business hours. FRS is available 24 hours a day, seven days a week, to leave a message or a question with the above individual. You will receive a reply during normal business hours.

SUPPLEMENTARY INFORMATION: The Tri-state Fuel Breaks Project envisions a strategic fuel break network along established roads over a 3.6 million-acre project area spanning southeastern Oregon and southwestern Idaho crossing district and state boundaries and connecting to an existing network of fuel breaks in the BLM's Winnemucca and Elko Districts in Nevada. Strategically placed fuel breaks in the Tri-state area will improve firefighter safety and expand opportunities to catch rapidly moving fires, potentially reducing fire size. Fuel breaks will provide greater protection of human life and property, sagebrush communities, and habitat restoration investments. Reducing fire size will help limit the expansion of invasive plants such as cheatgrass and medusahead.

This ROD approves implementation of the preferred alternative (Alternative 5 of the FEIS) in Idaho. The BLM Boise District will create and maintain a fuel break network of 20,629 acres along 435 miles of roads through mechanical, chemical, and/or biological (i.e., targeted grazing) treatments. BLM Oregon will issue a decision for their portion of the project at a future date.

The BLM published the Draft EIS on October 11, 2019, initiating a 45-day public comment period. During the comment period, the BLM received 40 letters and emails from the public and held three public meetings. The BLM took into account all comments in the preparation of the Final EIS released on April 3, 2020.

The BLM published the NOA for the Final EIS on April 3, 2020, initiating a 30-day availability period. On May 7, 2020, Department of the Interior Acting Assistant Secretary for Land and Minerals Management Casey Hammond signed a Record of Decision selecting the preferred alternative (Alternative 5) for implementation in the Idaho portion of the project area using a phased approach to prioritize well-maintained and strategically connected routes. That approval constitutes the final decision of the Department and, in accordance with the regulations at 43 CFR 4.410, is not subject to appeal under Departmental regulations found in 43 CFR part 4. Any challenge to this decision must be brought in the Federal District Court and is subject to 42 U.S.C. 4370m-6.

Authority: 40 CFR 1506.6, 40 CFR 1506.10.

Casey Hammond,
Principal Deputy Assistant Secretary, Exercising the authority of the Assistant Secretary, Land and Minerals Management.

[FR Doc. 2020-10298 Filed 5-13-20; 8:45 am]

BILLING CODE 4310-GG-P